DEPARTMENT OF ENERGY

Federal Energy Regulatory Commission

Combined Notice of Filings #2

Take notice that the Commission received the following exempt wholesale generator filings:

Docket Numbers: EG13-49-000.

Applicants: Buffalo Dunes Wind Project, LLC.

Description: Self-Certification of EG of Buffalo Dunes Wind Project, LLC.

Filed Date: 8/6/13.

Accession Number: 20130806-5148.

Comments Due: 5 p.m. ET 8/27/13.

Take notice that the Commission received the following electric rate filings:

Docket Numbers: ER10-2912-004.

Applicants: Alliance for Cooperative Energy Services.

Description: Notice of Non-Material Change in Status of Alliance for Cooperative Energy Services Power Marketing LLC.

Filed Date: 8/6/13.

Accession Number: 20130806-5154.

Comments Due: 5 p.m. ET 8/27/13.

Docket Numbers: ER11-4393-004.

Applicants: TAQA Gen X LLC.

Description: Notice of Non-Material Change in Status of TAQA Gen X LLC.

Filed Date: 8/6/13.

Accession Number: 20130806-5164.

Comments Due: 5 p.m. ET 8/27/13.

Docket Numbers: ER13-2113-000.

Applicants: ISO New England Inc., New England Power Pool Participants Committee.

Description: Tie Line Name Changes to be effective 10/6/2013.

Filed Date: 8/6/13.

Accession Number: 20130806-5086.

Comments Due: 5 p.m. ET 8/27/13.

Docket Numbers: ER13-2114-000.

Applicants: Virginia Electric and Power Company.

Description: Compliance Filing—VEPCO Wholesale MBR Nuclear Waiver to be effective 8/7/2013.

Filed Date: 8/6/13.

Accession Number: 20130806-5090.

Comments Due: 5 p.m. ET 8/27/13.

Docket Numbers: ER13-2115-000.

Applicants: Southern California Edison Company.

Description: Amended LGIA and Distribution Service Agmt with Brea Power II to be effective 8/7/2013.

Filed Date: 8/6/13.

Accession Number: 20130806-5138.

Comments Due: 5 p.m. ET 8/27/13.

Docket Numbers: ER13-2116-000.

Applicants: Nevada Power Company.

Description: Rate Schedule No. 138 Navajo Gen Station Operating Agmt as Amended concurrence to be effective 4/24/2013.

Filed Date: 8/6/13.

Accession Number: 20130806-5157.

Comments Due: 5 p.m. ET 8/27/13.

Docket Numbers: ER13-2117-000.

Applicants: Virginia Electric and Power Company.

Description: Compliance Filing—VEPCO MBS Tariff Nuclear Waiver to be effective 8/7/2013.

Filed Date: 8/6/13.

Accession Number: 20130806-5177.

Comments Due: 5 p.m. ET 8/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2013.
Nathaniel J. Davis, Sr.,
Deputy Secretary.

[FR Doc. 2013-19589 Filed 8-13-13; 8:45 am]

BILLING CODE 6717-01-P